DEPARTMENT OF DEFENSE

[DOD-2006-OS-0178]

Defense Logistics Agency; Privacy Act of 1974; Systems of Records

AGENCY: Defense Logistics Agency.

ACTION: Notice to alter a system of records.

SUMMARY: The Defense Logistics Agency proposes to alter a system of records notice in its existing inventory of records systems subject to the Privacy Act of 1974, (5 U.S.C. 552a), as amended.

DATES: This proposed action will be effective without further notice on September 11, 2006 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on June 9, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 7, 2006.
C.R. Choate,
Alternate OSD Federal Register Liaison Officer, Department of Defense.

S500.10 DLA-I

System name:

Personnel Security Files (November 16, 2004, 69 FR 67112).

Changes:

* * * * *

System identifier:

Delete “DLA-I” from entry.

* * * * *

system location:

Delete entry and replace with: “Public Safety Office, Headquarters, Defense Logistics Agency, 8725 John J. Kingman Road, Stop 6220, fort Belvoir, VA 22060-6221 and Public Safety Offices of the Defense Logistics Agency Field Activities. Official mailing addresses are published as an appendix to DLA's compilation of systems of records notices.”

Categories of individuals covered by the system:

Add “contractors” to entry.

Categories of records in the system:

Delete entry and replace with: “Individual's name, Social Security Number, home address and telephone number, and personal history statements; evidence of security eligibility determinations and security clearance granted to individuals; report of investigations conducted by investigative agencies and organizations; and certifications of security briefings and debriefings signed by individuals.”

Authority for maintenance of the system:

Delete entry and replace with: “5 U.S.C. 301, Departmental Regulations; 10 U.S.C. 136, Under Secretary of Defense for Personnel and Readiness; E.O. 10450, Security Requirements for Government Employment; E.O. 12958, Classified National Security Information; DoD Regulation 5200.2, DoD Personnel Security Program; and E.O. 9397 (SSN).”

Purpose(s):

Delete entry and replace with: “Records are used for the purpose of determining suitability, eligibility, or qualifications for federal civilian employment, federal contracts, or access to classified information. DLA Security Managers, supervisors, and management officials use the records to determine whether an individual is eligible to occupy a sensitive position and/or have been cleared for or granted access to classified information.”

* * * * *

Storage:

Add “electronic storage media” to entry.

Retrievability:

Add “Social Security Number” to entry.

Safeguards:

Delete entry and replace with: “Access is limited to those individuals who require the records for the performance of their official duties. Paper records are maintained in buildings with controlled or monitored access. During non-duty hours, records are secured in locked or guarded buildings, locked offices, and/or locked or guarded cabinets. The electronic records system employs user identification and password or smart card technology protocols.”

* * * * *

System manager(s) and address:

Delete entry and replace with: “Chief, Personnel Security, Headquarters, Defense Logistics Agency, ATTN: DES-SC, 8725 John J. Kingman Road, Stop 6220, Fort Belvoir, VA 22060-6221; and the Personnel Security Specialists of the DLA Field Activities. Official mailing addresses are published as an appendix to DLA's compilation of systems of records notices.”

Notification procedure:

Delete entry and replace with: “Individuals seeking to determine whether information about themselves is contained in this system should address written inquiries to the Privacy Act Officer, Headquarters, Defense Logistics Agency, ATTN: DP, 8725 John J. Kingman Road, Stop 2533, Fort Belvoir, VA 22060-6221.”

Requests should contain the subject individual's full name, Social Security Number, date and place of birth, current address, and telephone number.

Record access procedures:

Delete entry and replace with: “Individuals seeking access to information about themselves contained in this system should address written inquiries to the Privacy Act Officer, Headquarters, Defense Logistics Agency, ATTN: DP, 8725 John J. Kingman Road, Stop 2533, Fort Belvoir, VA 22060-6221.”

Requests should contain the subject individual's full name, Social Security Number, date and place of birth, current address, and telephone number.

In addition, the requester must provide a notarized statement or an unsworn declaration made in accordance with 28 U.S.C. 1746, in the following format. The unsworn declaration statement must be signed and dated.

If executed within the United States, its territories, possessions, or commonwealths the statement must read: ‘I declare under penalty of perjury that the foregoing is true and correct. Executed on (date). (Signature).’

If executed outside the United States, its territories, possessions, or commonwealths the statement must read: “I declare under penalty of perjury under the laws of the United States of America that the foregoing is true and correct. Executed on (date). (Signature).’”

Contesting record procedures:

Delete entry and replace with “The DLA rules for accessing records, for contesting contents, and appealing initial agency determinations are contained in 32 CFR part 323, or may be obtained from the Privacy Act Officer, Headquarters, Defense Logistics Agency, ATTN: DP, 8725 John J. Kingman Road, Stop 2533, Fort Belvoir, VA 22060-6221.”

Record source categories:

Delete entry and replace with “Information is provided by the record subject or from investigative reports.”

Exemptions claimed for the system:

Delete entry and replace with “Investigatory material compiled solely for the purpose of determining suitability, eligibility, or qualifications for federal civilian employment, federal contracts, or access to classified information may be exempt pursuant to 5 U.S.C. 552a(k)(5), but only to the extent that such material would reveal the identify of a confidential source.

An exemption rule for this system has been promulgated in accordance with the requirements of 5 U.S.C. 553(b)(1), (2) and (3)(c) and (e) and published in 32 CFR part 323. For additional information contact the system manager.”

* * * * *

S500.10

System name:

Personnel Security Files.

System location:

Public Safety Office, Headquarters, Defense Logistics Agency, 8725 John J. Kingman Road, Stop 6220, Fort Belvoir, VA 22060-6221 and Public Safety Offices of the Defense Logistics Agency Field Activities. Official mailing addresses are published as an appendix to DLA's compilation of systems of records notices.

Categories of individuals covered by the system:

All civilian employees, military personnel and contractors who have been the subject of a National Agency Check with Written Inquiries (NACI); a Background Investigation (BI); Special Background Investigation (SBI); or other personnel security investigation pertaining to their qualifications and eligibility to occupy sensitive positions, perform sensitive duties, or for access to classified information.

Categories of records in the system:

Individual's name, Social Security Number, home address and telephone number, and personal history statements; evidence of security eligibility determinations and security clearances granted to individuals; reports of investigations conducted by investigative agencies and organizations; and certifications of security briefings and debriefings signed by individuals.

Authority for maintenance of the system:

5 U.S.C. 301, Departmental Regulations; 10 U.S.C. 136, Under Secretary of Defense for Personnel and Readiness; E.O. 10450, Security Requirements for Government Employment; E.O. 12958, Classified National Security Information; DoD Regulation 5200.2, DoD Personnel Security Program; and E.O. 9397 (SSN).

Purpose(s):

Records are used for the purpose of determining suitability, eligibility, or qualifications for federal civilian employment, federal contracts, or access to classified information. DLA Security Managers, supervisors, and management officials use the records to determine whether an individual is eligible to occupy a sensitive position and/or have been cleared for or granted access to classified information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of DLA's compilation of systems of records notices apply to this system.

Policies and practices for storing, retrieving, accessing, retaining, and disposing of records in the system:

Storage:

Paper records in file folders and electronic storage media.

Retrievability:

Records are retrieved alphabetically by name and Social Security Number.

Safeguards:

Access is limited to those individuals who require the records for the performance of their official duties. Paper records are maintained in buildings with controlled or monitored access. During non-duty hours, records are secured in locked or guarded buildings, locked offices, and/or locked or guarded cabinets.

The electronic records system employs user identification and password or smart card technology protocols.

Retention and disposal:

Records of security eligibility determinations, evidence of security clearances and related documents are retained as long as the person is employed or assigned to DLA. After the person leaves DLA, the reports are placed in an inactive file for two years, and then destroyed. Reports of investigations are destroyed 90 days after a security eligibility determination is made.

System manager(s) and address:

Chief, Personnel Security, Headquarters, Defense Logistics Agency, ATTN: DES-SC, 8725 John J. Kingman Road, Stop 6220, Fort Belvoir, VA 22060-6221; and the Personnel Security Specialists of the DLA Field Activities. Official mailing addresses are published as an appendix to DLA's compilation of systems of records notices.

Notification procedure:

Individuals seeking to determine whether information about themselves is contained in this system should address written inquiries to the Privacy Act Officer, Headquarters, Defense Logistics Agency, ATTN: DP, 8725 John J. Kingman Road, Stop 2533, Fort Belvoir, VA 22060-6221.

Requests should contain the subject individual's full name, Social Security Number, date and place of birth, current address, and telephone number.

Record access procedures:

Individuals seeking access to information about themselves contained in this system should address written inquiries to the Privacy Act Officer, Headquarters, Defense Logistics Agency, ATTN: DP, 8725 John J. Kingman Road, Stop 2533, Fort Belvoir, VA 22060-6221.

Requests should contain the subject individual's full name, Social Security Number, date and place of birth, current address, and telephone number.

In addition, the requester must provide a notarized statement or an unsworn declaration made in accordance with 28 U.S.C. 1746, in the following format. The unsworn declaration statement must be signed and dated.

If executed within the United States, its territories, possessions, or commonwealths the statement must read: ‘I declare under penalty of perjury that the foregoing is true and correct. Executed on (date). (Signature).’

If executed outside the United States, its territories, possessions, or commonwealths the statement must read: ‘I declare under penalty of perjury under the laws of the United States of America that the foregoing is true and correct. Executed on (date). (Signature).’

Contesting record procedures:

The DLA rules for accessing records, for contesting contents, and appealing initial agency determinations are contained in 32 CFR part 323, or may be obtained from the Privacy Act Officer, Headquarters, Defense Logistics Agency, ATTN: DES-B, 8725 John J. Kingman Road, Stop 6220, Fort Belvoir, VA 22060-6221.

Record source categories:

Information is provided by the record subject or from investigative reports.

Exemptions claimed for the system:

Investigatory material compiled solely for the purpose of determining suitability, eligibility, or qualifications for federal civilian employment, federal contracts, or access to classified information may be exempt pursuant to 5 U.S.C. 552a(k)(5), but only to the extent that such material would reveal the identity of a confidential source.

An exemption rule for this system has been promulgated in accordance with the requirements of 5 U.S.C. 553(b)(1), (2) and (3)(c) and (e) and published in 32 CFR part 323. For additional information contact the system manager.

[FR Doc. 06-6847 Filed 8-10-06; 8:45 am]

BILLING CODE 5001-06-M